DEPARTMENT OF AGRICULTURE

Office of the Secretary

[Docket No. 00-066-1]

Declaration of Emergency Because of Bovine Tuberculosis

Bovine tuberculosis (tuberculosis) is a chronic debilitating disease caused by Mycobacterium bovis. The disease primarily affects cattle but can be transmitted to humans and other animals. The Animal and Plant Health Inspection Service (APHIS) is working cooperatively with the national livestock industry and State animal health agencies to eradicate tuberculosis from domestic livestock in the United States and, through continued monitoring and surveillance, to prevent its recurrence.

Scientific analysis has recently identified significant tuberculosis threats that could lead to the spread of the disease in the United States and compromise international and domestic trade in U.S. animals and animal products. These outcomes would threaten producers with losses and consumers with price increases.

The emerging tuberculosis threats include the transmission of tuberculosis to livestock from infected wildlife, especially free-ranging deer. Scientific evidence suggests that infected free-ranging deer are transmitting the disease to nearby cattle. Such transmission was recently identified in Michigan, with eight herds of cattle becoming infected with tuberculosis by free-ranging deer. Despite efforts by the State of Michigan to contain tuberculosis-infected wildlife to limited areas, program officials in Michigan subsequently discovered infected deer 75 miles outside the containment zone. This situation is threatening all interstate movement of cattle from Michigan due to concerns that cattle in that State might be exposed to infected deer.

Transmission of tuberculosis from wildlife also threatens cervids held in captivity for production. Infected captive cervids, in turn, pose a threat to cattle and other livestock. It is not currently known how prevalent tuberculosis is in captive cervids, because APHIS does not have the resources to conduct area testing of captive cervids.

Additionally, the U.S. cattle population is being threatened by recurring tuberculosis infection of dairy herds in the El Paso, TX, area. Recent studies have indicated that the greatest risk of reinfection in the El Paso area comes from the U.S. dairy herds' proximity to tuberculosis-infected dairy herds in Juarez, Mexico. Despite ongoing testing of large dairy herds in the El Paso area and removal of tuberculosis-infected animals from those herds, reinfection of U.S. dairy herds in that area continues to occur. Although depopulation of dairy herds in the El Paso area along the U.S./Mexican border is the most dependable method of protecting U.S. livestock from recurring tuberculosis infection in that area of Texas, depopulation of large U.S. dairy herds has not been a viable option because APHIS has lacked the resources to pay indemnity for depopulated herds.

A decline in testing for tuberculosis in recent years also threatens to allow the spread of the disease in the United States. As the number of tuberculosis-free States has increased, limitations on Federal resources have in many cases led Department inspectors to take samples only from those animals exhibiting obvious signs of tuberculosis. The number of samples taken from cattle at slaughter for testing for tuberculosis has decreased from approximately 4,000 in 1995 to 900 in 1999. However, APHIS estimates that 10,000 sample submissions are needed each year to adequately survey the U.S. cattle population for tuberculosis. APHIS needs additional funds both to provide assistance in taking the number of samples at slaughter necessary for adequate surveillance and to increase testing capacity at the Department's National Veterinary Services Laboratories.

Therefore, in order to address the tuberculosis threat to U.S. livestock, APHIS has determined that it is necessary to expand the tuberculosis eradication program in the United States by implementing the following: Improvement of Federal diagnostic capabilities and national surveillance for tuberculosis; payment of indemnity for the depopulation of herds affected with tuberculosis or at high risk for recurrence of the disease; establishment of identification requirements for animals imported into the United States for feeding and slaughter; assistance in eradicating tuberculosis from foreign areas adjacent to the United States that are at high risk for the disease; and research, control, and surveillance of tuberculosis in wildlife, captive cervids, and zoos in the United States. However, APHIS resources are insufficient to carry out these measures, and additional funds are needed.

Therefore, in accordance with the provisions of the Act of September 25, 1981, as amended (7 U.S.C. 147b), I declare that there is an emergency that threatens the livestock industry of this country and hereby authorize the transfer and use of such funds as may be necessary from appropriations or other funds available to the agencies or corporations of the United States Department of Agriculture to expand the tuberculosis eradication program in the United States.

Effective Date: This declaration of emergency shall become effective October 11, 2000.

Dan Glickman,
Secretary of Agriculture.

[FR Doc. 00-27156 Filed 10-20-00; 8:45 am]

BILLING CODE 3410-34-P